DEPARTMENT OF ENERGY

Federal Energy Regulatory Commission

Combined Notice of Filings #1

Take notice that the Commission received the following electric rate filings:

Docket Numbers: ER13-1079-002; ER12-348-000.

Applicants: Mercuria Commodities Canada Corporation, Mercuria Energy America, Inc.

Description: Supplement to February 25, 2015 Updated Market Power Analysis for the Southeast Region of Mercuria Commodities Canada Corporation, et. al.

Filed Date: 6/10/15.

Accession Number: 20150610-5344.

Comments Due: 5 p.m. ET 7/1/15.

Docket Numbers: ER14-2046-003.

Applicants: Plum Point Energy Associates, LLC.

Description: Compliance filing per 35: Settlement Tariff Compliance Filing to be effective 2/1/2015.

Filed Date: 6/11/15.

Accession Number: 20150611-5156.

Comments Due: 5 p.m. ET 7/2/15.

Docket Numbers: ER15-482-001.

Applicants: South Carolina Electric & Gas Company.

Description: Compliance filing per 35: Order 676 H 2nd Compliance filing to be effective 5/15/2015.

Filed Date: 6/10/15.

Accession Number: 20150610-5069.

Comments Due: 5 p.m. ET 7/1/15.

Docket Numbers: ER15-1815-001.

Applicants: Public Service Company of New Hampshire.

Description: Tariff Amendment per 35.17(b): Amendment to Joint Market Based Tariff to be effective 5/30/2015.

Filed Date: 6/10/15.

Accession Number: 20150610-5281.

Comments Due: 5 p.m. ET 7/1/15.

Docket Numbers: ER15-1816-001.

Applicants: Western Massachusetts Electric Company.

Description: Tariff Amendment per 35.17(b): Amendment to Joint Market Based Tariff to be effective 5/30/2015.

Filed Date: 6/10/15.

Accession Number: 20150610-5283.

Comments Due: 5 p.m. ET 7/1/15.

Docket Numbers: ER15-1882-001.

Applicants: PSEG Energy Resources & Trade LLC.

Description: Tariff Amendment per 35.17(b): Amendement to Revised Reactive Tariff to be effective 6/6/2015.

Filed Date: 6/10/15.

Accession Number: 20150610-5280.

Comments Due: 5 p.m. ET 7/1/15.

Docket Numbers: ER15-1894-000.

Applicants: PPL Electric Utilities Corporation.

Description: § 205(d) rate filing per 35.13(a)(2)(iii): Revisions to Market Based Rate Filing to be effective 8/10/2015.

Filed Date: 6/10/15.

Accession Number: 20150610-5001.

Comments Due: 5 p.m. ET 7/1/15.

Docket Numbers: ER15-1895-000.

Applicants: New York Independent System Operator, Inc.

Description: § 205(d) rate filing per 35.13(a)(2)(iii): NYISO 205 filing of LGIA among NYISO, NYPA and CPV Valley to be effective 5/28/2015.

Filed Date: 6/10/15.

Accession Number: 20150610-5118.

Comments Due: 5 p.m. ET 7/1/15.

Docket Numbers: ER15-1896-000.

Applicants: Eden Solar LLC.

Description: Initial rate filing per 35.12 Eden Solar LLC MBR Tariff to be effective 8/1/2015.

Filed Date: 6/10/15.

Accession Number: 20150610-5270.

Comments Due: 5 p.m. ET 7/1/15.

Docket Numbers: ER15-1897-000.

Applicants: Southern California Edison Company.

Description: § 205(d) rate filing per 35.13(a)(2)(iii): Amended GIA with County Sanitation District No. 2 Los Angeles County to be effective 6/12/2015.

Filed Date: 6/11/15.

Accession Number: 20150611-5002.

Comments Due: 5 p.m. ET 7/2/15.

Docket Numbers: ER15-1898-000.

Applicants: Southern California Edison Company.

Description: Tariff Withdrawal per 35.15: Notices of Cancellation Two Service Agmts with Ecos Energy, LLC to be effective 6/4/2015.

Filed Date: 6/11/15.

Accession Number: 20150611-5003.

Comments Due: 5 p.m. ET 7/2/15.

Docket Numbers: ER15-1899-000.

Applicants: Southwest Power Pool, Inc.

Description: § 205(d) rate filing per 35.13(a)(2)(iii): 2899R1 Pawnee Wind Farm, LLC GIA to be effective 5/26/2015.

Filed Date: 6/11/15.

Accession Number: 20150611-5041.

Comments Due: 5 p.m. ET 7/2/15.

Docket Numbers: ER15-1900-000.

Applicants: PJM Interconnection, L.L.C., PPL Electric Utilities Corporation.

Description: § 205(d) rate filing per 35.13(a)(2)(iii): PPL submits Service Agreement No. 4149 to be effective 5/11/2015.

Filed Date: 6/9/15.

Accession Number: 20150609-5184.

Comments Due: 5 p.m. ET 6/30/15.

Docket Numbers: ER15-1901-000.

Applicants: Louisville Gas and Electric Company.

Description: § 205(d) rate filing per 35.13(a)(2)(iii): Revised Att Q ITO Agreement to be effective 9/1/2015.

Filed Date: 6/11/15.

Accession Number: 20150611-5050.

Comments Due: 5 p.m. ET 7/2/15.

Docket Numbers: ER15-1902-000.

Applicants: Southwest Power Pool, Inc.

Description: § 205(d) rate filing per 35.13(a)(2)(iii): 3043 Prairie Breeze Wind Energy II LLC GIA to be effective 5/26/2015.

Filed Date: 6/11/15.

Accession Number: 20150611-5055.

Comments Due: 5 p.m. ET 7/2/15.

Docket Numbers: ER15-1903-000.

Applicants: Midcontinent Independent System Operator, Inc.

Description: § 205(d) rate filing per 35.13(a)(2)(iii): 2015-06-11_SA 2807 Entergy Arkansas-Union Power Partners GIA (J376) to be effective 6/12/2015.

Filed Date: 6/11/15.

Accession Number: 20150611-5057.

Comments Due: 5 p.m. ET 7/2/15.

Docket Numbers: ER15-1904-000.

Applicants: Tucson Electric Power Company.

Description: Tariff Withdrawal per 35.15: Cancellation of Rate Schedule No. 324 to be effective 6/1/2015.

Filed Date: 6/11/15.

Accession Number: 20150611-5089.

Comments Due: 5 p.m. ET 7/2/15.

Docket Numbers: ER15-1905-000.

Applicants: AZ721 LLC.

Description: Initial rate filing per 35.12 Application for Market Base Rate Tariff to be effective 8/11/2015.

Filed Date: 6/11/15.

Accession Number: 20150611-5181.

Comments Due: 5 p.m. ET 7/2/15.

Docket Numbers: ER15-1906-000.

Applicants: Southwest Power Pool, Inc.

Description: § 205(d) rate filing per 35.13(a)(2)(iii): Membership Agreement Amendments for Corn Belt, East River and NIPCO to be effective 5/19/2015.

Filed Date: 6/11/15.

Accession Number: 20150611-5184.

Comments Due: 5 p.m. ET 7/2/15.

Take notice that the Commission received the following electric securities filings:

Docket Numbers: ES15-33-000.

Applicants: Northern Indiana Public Service Company.

Description: Application for Authorization to Issue Short-Term Debt of Northern Indiana Public Service Company under ES15-33.

Filed Date: 6/10/15.

Accession Number: 20150610-5340.

Comments Due: 5 p.m. ET 7/1/15.

Take notice that the Commission received the following qualifying facility filings:

Docket Numbers: QF15-828-000.

Applicants: HP Hood LLC.

Description: Form 556 of HP Hood LLC.

Filed Date: 6/11/15.

Accession Number: 20150611-5097.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2015.
Kimberly D. Bose,
Secretary.

[FR Doc. 2015-14866 Filed 6-16-15; 8:45 am]

BILLING CODE 6717-01-P